FEDERAL COMMUNICATIONS COMMISSION

Notice of Public Information Collection(s) Being Reviewed by the Federal Communications Commission, Comments Requested

April 7, 2005.

Summary: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

Dates: Written Paperwork Reduction (PRA) comments should be submitted on or before June 20, 2005. If you anticipate that you will be submitting comments, but find it difficult to do so within the period of time allowed by this notice, you should advise the contact listed below as soon as possible.

Addresses: Direct all Paperwork Reduction Act (PRA) comments to Cathy Williams, Federal Communications Commission, Room 1-C823, 445 12th Street, SW., Washington, DC 20554 or via the Internet to Cathy.Williams@fcc.gov.

For Further Information Contact: For additional information or copies of the information collection(s), contact Cathy Williams at 202-418-2918 or via the Internet at Cathy.Williams@fcc.gov.

Supplementary Information:

OMB Control Number: 3060-0084.

Title: Ownership Report for Noncommercial Educational Broadcast Station.

Form Number: FCC Form 323-E.

Type of Review: Extension of a currently approved collection.

Respondents: Not-for-profit institutions.

Number of Respondents: 2,636.

Estimated Time per Response: 3 hours.

Frequency of Response: On occasion reporting requirement; Biennial reporting requirement; With renewal reporting requirement.

Total Annual Burden: 7,908 hours.

Total Annual Cost: $1,054,400.

Privacy Act Impact Assessment: No impact(s).

Needs and Uses: Each licensee/permittee of a noncommercial FM and TV broadcast station is required to file an Ownership Report for a Noncommercial Educational Broadcast Station, FCC Form 323-E, within 30 days of the date of grant by the FCC of an application for an original construction permit. In addition, licensee/permittee must file FCC Form 323-E on the application date for a station license or with the license renewal application, and every two years thereafter. Each licensee with a current, unmodified FCC Form 323-E on file with the Commission may electronically review its current Report, validate its accuracy, and be relieved of the obligation to file a new biennial Ownership Report. The FCC Form 323-E must also be filed within 30 days of consummating authorized assignments or transfers of permits and licenses. The data is used by FCC staff to determine if licensee/permittee is in compliance with Sections 308 and 310 of the Communications Act, as amended, and the Commission's ownership disclosure requirements.

Federal Communications Commission.
Marlene H. Dortch,
Secretary.

[FR Doc. 05-7952 Filed 4-20-05; 8:45 am]

BILLING CODE 6712-01-P